INTERNATIONAL TRADE COMMISSION

[Investigation Nos. 701-TA-556 and 731-TA-1311 (Final)]

Truck and Bus Tires From China

Determinations

On the basis of the record ¹ developed in the subject investigations, the United States International Trade Commission (“Commission”) determines, pursuant to the Tariff Act of 1930 (“the Act”), that an industry in the United States is not materially injured or threatened with material injury by reason of imports of truck and bus tires from China, provided for in statistical reporting numbers 4011.20.1015 and 4011.20.5020 of the Harmonized Tariff Schedule of the United States, that have been found by the Department of Commerce (“Commerce”) to be sold in the United States at less than fair value (“LTFV”), and to be subsidized by the government of China.²

¹ The record is defined in sec. 207.2(f) of the Commission's Rules of Practice and Procedure (19 CFR 207.2(f)).

² Chairman Rhonda K. Schmidtlein and Commissioner Irving A. Williamson determine that a domestic industry is materially injured by reason of subject imports. Commissioner Dean A. Pinkert did not participate in these investigations.

Background

The Commission, pursuant to sections 705(b) and 735(b) of the Act (19 U.S.C. 1671d(b) and 19 U.S.C. 1673d(b)), instituted these investigations effective January 29, 2016, following receipt of a petition filed with the Commission and Commerce by the United Steel, Paper and Forestry, Rubber, Manufacturing, Energy, Allied Industrial and Service Workers International Union, Pittsburgh, PA. The final phase of the investigations was scheduled by the Commission following notification of a preliminary determinations by Commerce that imports of truck and bus tires from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on September 15, 2016 (81 FR 63494). The hearing was held in Washington, DC, on January 24, 2017, and all persons who requested the opportunity were permitted to appear in person or by counsel.

The Commission made these determinations pursuant to sections 705(b) and 735(b) of the Act (19 U.S.C. 1671d(b) and 19 U.S.C. 1673d(b)). It completed and filed its determinations in these investigations on March 13, 2017. The views of the Commission are contained in USITC Publication 4673 (March 2017), entitled Truck and Bus Tires From China: Investigation Nos. 701-TA-556 and 731-TA-1311 (Final).

By order of the Commission.
Issued: March 13, 2017.
Lisa R. Barton,
Secretary to the Commission.

[FR Doc. 2017-05320 Filed 3-16-17; 8:45 am]

BILLING CODE P